Title 3—

The President

Proclamation 7518 of January 17, 2002

Martin Luther King, Jr., Federal Holiday, 2002

By the President of the United States of America

A Proclamation

For too brief a time, our Nation was blessed by the life of Dr. Martin Luther King, Jr. Dr. King was a modern American hero whose leadership rallied people of all races to rise up against injustice. His commitment to stand peacefully for the conviction that all men are created equal brought about changes in the laws of our Nation, and he paid the ultimate price for the courage he demonstrated in attempting to ensure that all men and women were treated equally in the eyes of the law and by their fellow citizens. It is with a great sense of pride and gratitude that we celebrate this 17th national holiday in honor of Dr. King's life and work. Let us take this opportunity to recall his vision and renew his call for equal justice for all.

We enter this new year and this annual celebration with a revived national spirit. The events of September 11, 2001, have drawn us closer as a Nation and increased our resolve to protect the life and liberty we cherish. And while our patriotism and neighborly affections run high, these circumstances have given us renewed purpose in rededicating ourselves to Dr. King's “dream.” As he said on the steps of the Lincoln Memorial on August 28, 1963: “I have a dream my four little children will one day live in a nation where they will not be judged by the color of their skin but by content of their character.” Dr. King's words were not just a call to change our laws, but they also served as a challenge to all Americans to change their hearts by refusing to judge people by their skin color or their national origin, by their race or their religion. For while we have made progress, there is much work to be done, both at home and abroad.

In the face of massive injustice, Dr. King's unwavering commitment to nonviolent means of bringing the people of our Nation together provided a foundation for healing and trust. That trust brought us through our recent tragedy as we reached out to each other without regard to race or religion. Dr. King spent his life working for those who held the uncelebrated jobs in our communities—people who simply performed their work with dignity and pride. The words from his Nobel Peace Prize acceptance speech of 1964, spoken about the workers in the freedom movement, still ring true for those men and women who unselfishly attempted to rescue innocent persons in the World Trade Center buildings and at the Pentagon:

Most of these people will never make the headlines and their names will not appear in Who's Who. Yet when years have rolled past and when the blazing light of truth is focused on this marvelous age in which we live—men and women will know and children will be taught that we have a finer land, a better people, a more noble civilization—because these humble children of God were willing to suffer for righteousness' sake.

We are so thankful for those “humble children of God,” and we are thankful for the life and times of Dr. Martin Luther King, Jr. His abiding faith in America has helped us become a fairer and more colorblind society.

NOW, THEREFORE, I, GEORGE W. BUSH, President of the United States of America, by virtue of the authority vested in me by the Constitution and laws of the United States, do hereby proclaim Monday, January 21, 2002, as the Martin Luther King, Jr., Federal Holiday. I encourage Americans to observe this day with appropriate community programs, gatherings, and civic activities that honor the memory and the legacy of Dr. King.

IN WITNESS WHEREOF, I have hereunto set my hand this seventeenth day of January, in the year of our Lord two thousand two, and of the Independence of the United States of America the two hundred and twenty-sixth.

B

[FR Doc. 02-1969

Filed 1-23-02; 8:45 am]

Billing code 3195-01-P